DEPARTMENT OF COMMERCE

Submission for OMB Review; Comment Request

The Department of Commerce will submit to the Office of Management and Budget (OMB) for clearance the following proposal for collection of information under the provisions of the Paperwork Reduction Act (44 U.S.C. Chapter 35).

Agency: National Technical Information Service.

Title: Limited Access Death Master File Subscriber Certification Form.

OMB Control Number: 0692-0013.

Form Number(s): NTIS FM161.

Type of Request: Reinstatement.

Number of Respondents: 700.

Average Hours per Response: 2 hours.

Burden Hours: 1,400.

Needs and Uses: The National Technical Information Service (NTIS) Limited Access Death Master File Subscriber Certification Form (Certification Form) will be used by NTIS to collect information related to the implementation of Section 203 of the Bipartisan Budget Act of 2013 (Pub. L. 113-67) (Act). On March 26, 2014, NTIS issued an interim final rule establishing a temporary certification program for persons who seek access to the Social Security Administration's Public Death Master File (DMF) (http://www.gpo.gov/fdsys/pkg/FR-2014-03-26/pdf/2014-06701.pdf). The interim final rule is codified at 15 C.F.R. part 1110. Section 203 of the Act prohibits disclosure of DMF information during the three-calendar-year period following death unless the person requesting the information has been certified under a program established by the Secretary of Commerce. The Act directs the Secretary of Commerce to establish a certification program for such access to the DMF. The Secretary of Commerce has delegated the authority to carry out the DMF certification program to the Director, NTIS. The DMF Certification Form collects only information necessary for NTIS to conduct the program. This collection of information is for information necessary to support the certification process required by the Act for members of the public to be given access to the Death Master File containing information about deceased persons during the three-calendar-year period after that person's death.

The Act required implementation of the certification program ninety (90) days after enactment. NTIS requested emergency clearance of this collection of information in order to implement the certification program on March 26, 2014, and the information collection was approved on an emergency basis through September 30, 2014. NTIS anticipates publishing a notice of proposed rulemaking in the near future and as part of that proposed rulemaking will seek clearance of a revised information collection. However, the revised information collection will not be used until a final rule is published. NTIS must continue to use the existing DMF Certification Form until the final rule is published.

Affected Public: Users who wish to obtain access to the Death Master File from NTIS.

Frequency: Annually.

Respondent's Obligation: Annually (resubmit the certification form at time of Limited Access DMF subscription renewal.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 10, 2014.
Glenna Mickelson,
Management Analyst, Office of the Chief Information Officer.

[FR Doc. 2014-26997 Filed 11-13-14; 8:45 am]

BILLING CODE 3510-04-P